NATIONAL ARCHIVES AND RECORDS ADMINISTRATION

Advisory Committee on Preservation; Meeting

AGENCY: National Archives and Records Administration.

ACTION: Notice of meeting.

SUMMARY: In accordance with the Federal Advisory Committee Act (5 U.S.C. App. 2) and implementing regulation 41 CFR 101-6, the National Archives and Records Administration (NARA) announces a meeting of the Advisory Committee on Preservation. NARA uses the Committee's recommendations on NARA's implementation of strategies for preserving the permanently valuable records of the Federal Government.

DATES: November 8, 2001, from 10 a.m. to 5 p.m. and November 9, 2001, from 9 a.m. to noon.

ADDRESSES: National Archives and Records Administration, 8601 Adelphi Road, lecture rooms B & C, College Park, MD 20740-6001.

FOR FURTHER INFORMATION CONTACT: Alan Calmes, Preservation Archivist, 301-713-7403.

SUPPLEMENTARY INFORMATION:

1. The agenda for this meeting is a review of the NARA preservation program.

2. Discussion of the application of state-of-the-art technology for the preservation of paper, film, audio, and video Federal records.

This meeting will be open to the public, but seating may be limited.

Dated: September 17, 2001.
Mary Ann Hadyka,
Committee Management Officer.

[FR Doc. 01-23711 Filed 9-21-01; 8:45 am]

BILLING CODE 7515-01-P